NATIONAL CREDIT UNION ADMINISTRATION

12 CFR Part 701

RIN 3133-AF06

Chartering and Field of Membership

Correction

In rule document 2020-16988 appearing on pages 56498-56514 in the issue of September 14, 2020, make the following correction:

On page 56498, in the third column, in the DATES section, in the second line “September 14, 2020” should read “October 14, 2020”.

[FR Doc. C1-2020-16988 Filed 9-14-20; 11:15 am]

BILLING CODE 1301-00-D